DEPARTMENT OF HOMELAND SECURITY

Federal Emergency Management Agency

[Docket ID FEMA-2018-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of September 28, 2018 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

David I. Maurstad,
Deputy Associate Administrator for Insurance and Mitigation, Department of Homeland Security, Federal Emergency Management Agency.

Community | Community map repository address
Santa Barbara County, California and Incorporated Areas
Docket No.: FEMA-B-1729
City of Carpinteria | Public Works Department, 5775 Carpinteria Avenue, Carpinteria, CA 93013.
City of Goleta | City Hall, Planning and Environmental Review Department, 130 Cremona Drive, Suite B, Goleta, CA 93117.
City of Santa Barbara | Community Development Department, Building and Safety Division, 630 Garden Street, Santa Barbara, CA 93101.
Unincorporated Areas of Santa Barbara County | Naomi Schwartz County Office Building, 130 East Victoria Street, Suite 200, Santa Barbara, CA 93101.
Adams County, Colorado and Incorporated Areas
Docket No.: FEMA-B-1708
Unincorporated Areas of Adams County | Adams County Community and Economic Development, 4430 South Adams County Parkway, 1st Floor, Suite W2000, Brighton, CO 80601.
Arapahoe County, Colorado and Incorporated Areas
Docket No.: FEMA-B-1708
City of Aurora | Engineering Department, 15151 East Alameda Parkway, Suite 3200, Aurora, CO 80012.
Unincorporated Areas of Arapahoe County | Arapahoe County Public Works and Development Department, 6924 South Lima Street, Centennial, CO 80112.
Tillamook County, Oregon and Incorporated Areas
Docket No.: FEMA-B-1710
City of Bay City | City Hall, 5525 B Street, Bay City, OR 97107.
City of Garibaldi | City Hall, 107 Sixth Street, Garibaldi, OR 97118.
City of Manzanita | City Hall, 543 Laneda Avenue, Manzanita, OR 97130.
City of Nehalem | City Hall, 35900 8th Street, Nehalem, OR 97131.
City of Rockaway Beach | City Hall, 276 Highway 101 South, Rockaway Beach, OR 97136.
City of Wheeler | City Hall, 775 Nehalem Boulevard, Wheeler, OR 97147.
Unincorporated Areas of Tillamook County | Tillamook County Courthouse, 201 Laurel Avenue, Tillamook, OR 97141.
Fairfield County, South Carolina and Incorporated Areas
Docket No.: FEMA-B-1666
Unincorporated Areas of Fairfield County | Fairfield County Planning, Building and Zoning Department, 117 South Congress Street, Winnsboro, SC 29180.
Kershaw County, South Carolina and Incorporated Areas
Docket No.: FEMA-B-1666
City of Camden | City Hall, Building and Zoning Department, 1000 Lyttleton Street, Camden, SC 29020.
Unincorporated Areas of Kershaw County | Kershaw County Government Center, Planning and Zoning Department, 515 Walnut Street, Camden, SC 29020.
Lancaster County, South Carolina and Incorporated Areas
Docket No.: FEMA-B-1666
Unincorporated Areas of Lancaster County | Lancaster County Administration Building, Zoning Department, 101 North Main Street, Lancaster, SC 29720.
Sumter County, South Carolina and Incorporated Areas
Docket No.: FEMA-B-1666
City of Sumter | The Liberty Center, City-County Planning Department, 12 West Liberty Street, Sumter, SC 29150.
Unincorporated Areas of Sumter County | Sumter City-County Planning Department, 12 West Liberty Street, Sumter, SC 29150.
Marathon County, Wisconsin and Incorporated Areas
Docket No.: FEMA-B-1710
City of Schofield | City of Schofield Public Works, 200 Park Street, Schofield, WI 54476.
City of Wausau | City of Wausau Inspections Department, 407 Grant Street, Wausau, WI 54403.
Unincorporated Areas of Marathon County | Marathon County Conservation, Planning and Zoning Office, 210 River Drive, Wausau, WI 54403.
Village of Rothschild | Village Hall, 211 Grand Avenue, Rothschild, WI 54474.

[FR Doc. 2018-13607 Filed 6-25-18; 8:45 am]

BILLING CODE 9110-12-P